NATIONAL AERONAUTICS AND SPACE ADMINISTRATION

14 CFR Parts 1260, 1273, and 1274

RIN 2700-AE06

Removal of Procedures for Closeout of Grants and Cooperative Agreements

AGENCY: National Aeronautics and Space Administration.

ACTION: Final rule.

SUMMARY: The National Aeronautics and Space Administration (NASA) is issuing a final rule removing from its regulation agency procedures for closeout of grants and cooperative agreements. Simultaneous with removal of the closeout procedures from the regulation, NASA will issue non-regulatory closeout procedures.

DATES: This final rule is effective April 15, 2014.

FOR FURTHER INFORMATION CONTACT: Jamiel C. Commodore, NASA Headquarters, Office of Procurement, Contract Management Division, Washington, DC 20546, (202) 358-0302; email: Jamiel.C.Comodore@nasa.gov.

SUPPLEMENTARY INFORMATION:

I. Background

NASA published a proposed rule at 78FR68375-78FR68376 on November 14, 2013, to begin an effort to remove agency internal policy, practices, and procedures from the regulation that do not have an impact on the public. No comments were received on the proposed rule. This final rule is published without change to the proposed rule.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility.

This is not a significant regulatory action and, therefore, was not subject to review under section 6(b) of E.O. 12866, Regulatory Planning and Review, dated September 30, 1993. This rule is not a major rule under 5 U.S.C. 804.

III. Regulatory Flexibility Act

NASA certifies that this final rule will not have a significant economic impact on a substantial number of small entities within the meaning of the Regulatory Flexibility Act, 5 U.S.C. 601, et seq., because this final rule does not impose any additional requirements on small entities and, more importantly, this final rule serves to deregulate internal agency operating procedures which will eliminate unnecessary regulation.

IV. Paperwork Reduction Act

The Paper Reduction Act (Pub. L. 104-13) is not applicable because the removal of the closeout procedures does not require the submission of any information by recipients that requires the approval of the Office of Management and Budget under 44 U.S.C. 3501, et seq.

List of Subjects in 14 CFR Parts 1260, 1273, and 1274

Colleges and universities, Business and industry, Grant programs, Grants administration, Cooperative agreements, State and local governments, Non-profit organizations, Commercial firms, Recipients, Closeout procedures, Recipient reporting.

William P. McNally,
Assistant Administrator for Procurement.

Accordingly, 14 CFR parts 1260, 1273, and 1274 are amended as follows:

PART 1260—GRANTS AND COOPERATIVE AGREEMENTS

1. The authority citation for 14 CFR part 1260 is revised to read as follows:

Authority: 51 U.S.C. 20113(e), Pub. L. 97-258, 96 Stat. 1003 (31 U.S.C. 6301, et seq.), and 2 CFR Part 200.

§ 1260.77 [Removed and Reserved]

2. Section 1260.77 is removed and reserved.

PART 1273—UNIFORM ADMINISTRATIVE REQUIREMENTS FOR GRANTS AND COOPERATIVE AGREEMENTS TO STATE AND LOCAL GOVERNMENTS

3. The authority citation for 14 CFR part 1273 is revised to read as follows:

Authority: 51 U.S.C. 20113(e), Pub. L. 97-258, 96 Stat. 1003 (31 U.S.C. 6301, et seq.), and 2 CFR Part 200.

§§ 1273.50 and 1273.51 [Removed and Reserved]

4. Sections 1273.50 and 1273.51 are removed and reserved.

PART 1274—COOPERATIVE AGREEMENTS WITH COMMERCIAL FIRMS

5. The authority citation for 14 CFR part 1274 is revised to read as follows:

Authority: 51 U.S.C. 20113(e), Pub. L. 97-258, 96 Stat. 1003 (31 U.S.C. 6301, et seq.).

§§ 1274.803 and 1274.804 [Removed and Reserved]

6. Sections 1274.803 and 1274.804 are removed and reserved.

[FR Doc. 2014-08372 Filed 4-14-14; 8:45 am]

BILLING CODE 7510-01-P